DEPARTMENT OF COMMERCE

Foreign-Trade Zones Board

[S-03-2021]

Foreign-Trade Zone 266—Madison, Wisconsin; Application for Subzone; Coating Place, Inc.; Verona, Wisconsin

An application has been submitted to the Foreign-Trade Zones (FTZ) Board by Dane County, Wisconsin, grantee of FTZ 266, requesting subzone status for the facility of Coating Place, Inc. (Coating Place), located in Verona, Wisconsin. The application was submitted pursuant to the provisions of the Foreign-Trade Zones Act, as amended (19 U.S.C. 81a-81u), and the regulations of the FTZ Board (15 CFR part 400). It was formally docketed on January 6, 2021.

A notification of proposed production activity has been submitted and is being processed under 15 CFR 400.37 (Doc. B-62-2020). The proposed subzone would be subject to the existing activation limit of FTZ 266.

In accordance with the FTZ Board's regulations, Elizabeth Whiteman and Juanita Chen of the FTZ Staff are designated examiners to review the application and make recommendations to the Executive Secretary.

Public comment is invited from interested parties. Submissions shall be addressed to the FTZ Board's Executive Secretary and sent to: ftz@trade.gov. The closing period for their receipt is February 22, 2021. Rebuttal comments in response to material submitted during the foregoing period may be submitted during the subsequent 15-day period to March 8, 2021.

A copy of the application will be available for public inspection in the “Reading Room” section of the FTZ Board's website, which is accessible via www.trade.gov/ftz.

For further information, contact Elizabeth Whiteman at Elizabeth.Whiteman@trade.gov or Juanita Chen at Juanita.Chen@trade.gov.

Dated: January 7, 2021.
Andrew McGilvray,
Executive Secretary.

[FR Doc. 2021-00436 Filed 1-11-21; 8:45 am]

BILLING CODE 3510-DS-P